Title 3—

The President

Proclamation 9726 of April 16, 2018

National Volunteer Week, 2018

By the President of the United States of America

A Proclamation

During National Volunteer Week, we recognize the millions of Americans who strengthen, enrich, and improve our communities through their tireless and selfless commitment to serving others. Those who dedicate their time, talent, and resources to positively influence the lives of others continue a legacy and tradition of service that began with our Founding Fathers and remains firmly enshrined in our national character today.

Volunteers leave their mark on every facet of our neighborhoods and communities. Their work educates, equips, and empowers others. Some who volunteer as first responders risk rushing toward danger in order to help people during their times of greatest need. Others help children learn to read, tutor struggling students, provide services to the impoverished or elderly, and support our veterans and military families. Acting individually and through faith-based and other community organizations, volunteers help to bind us together as a Nation.

America's volunteers are exceptional citizens and tremendous role models who demonstrate some of the finest qualities of the American people. Time and again we have seen America's compassionate, serving heart through the volunteer efforts of our people. Last year, for example, we saw the dedication and generosity of volunteers during Hurricanes Harvey, Irma, and Maria, which harmed and displaced thousands of Americans. In the wake of such destruction and tragedy, heartening stories of unity, selflessness, and hope emerged. Americans from all walks of life put their lives on hold, and often on the line, to help people they had never met. They answered an urgent call and took action. These commendable individuals embody the very best of our country and our way of life. They remind us that even in our darkest days, goodness will prevail.

During National Volunteer Week, we honor America's outstanding volunteers and their invaluable contributions to our Nation and the world. Because of their compassion and dedication, they are transforming communities and lives all across the country. I salute the men and women of all ages who mobilize each day to serve others, and I encourage all citizens to seek out opportunities to engage in volunteer service within their communities.

NOW, THEREFORE, I, DONALD J. TRUMP, President of the United States of America, by virtue of the authority vested in me by the Constitution and the laws of the United States, do hereby proclaim April 15 through April 21, 2018, as National Volunteer Week. I call upon all Americans to observe this week by volunteering in service projects across our country and pledging to make service a part of their daily lives.

IN WITNESS WHEREOF, I have hereunto set my hand this sixteenth day of April, in the year of our Lord two thousand eighteen, and of the Independence of the United States of America the two hundred and forty-second.

[FR Doc. 2018-08346

4-18-18; 8:45 am]

Billing code 3295-F8-P